DEPARTMENT OF COMMERCE

International Trade Administration

[A-570-601]

Tapered Roller Bearings and Parts Thereof, Finished and Unfinished, From the People's Republic of China: Final Results of Antidumping Duty Administrative Review; 2016-2017

AGENCY: Enforcement and Compliance, International Trade Administration, Department of Commerce.

SUMMARY: The Department of Commerce (Commerce) determines that GGB Bearing Technology (Suzhou) Co., Ltd. (GGB) sold tapered roller bearings and parts thereof, finished and unfinished (TRBs) from the People's Republic of China (China) at less than normal value (NV) during the period of review (POR), June 1, 2016, through May 31, 2017.

DATES: Applicable February 26, 2019.

FOR FURTHER INFORMATION CONTACT: Andrew Medley or Alex Wood, AD/CVD Operations, Office II, Enforcement and Compliance, International Trade Administration, U.S. Department of Commerce, 1401 Constitution Avenue NW, Washington, DC 20230; telephone: (202) 482-4987 or (202) 482-1959, respectively.

SUPPLEMENTARY INFORMATION:

Background

Commerce published the Preliminary Results on July 12, 2018.¹ For events subsequent to the Preliminary Results, see Commerce's Issues and Decision Memorandum.² On August 2, 2018, in accordance with section 751(a)(3)(A) of the Tariff Act of 1930, as amended (the Act), Commerce extended the deadline for issuing the final results until January 8, 2019.³ Commerce exercised its discretion to toll all deadlines affected by the partial Federal government closure from December 22, 2018, through the resumption of operations on January 29, 2019.⁴ If the tolled deadline falls on a non-business day, in accordance with Commerce's practice, the deadline will become the next business day. The revised deadline for the final results is now February 19, 2019.

¹ See Tapered Roller Bearings and Parts Thereof, Finished and Unfinished, from the People's Republic of China: Preliminary Results and Intent to Rescind the Review in Part; 2016-2017, 83 FR 32263 (July 12, 2018) (Preliminary Results) and accompanying Preliminary Decision Memorandum (PDM).

² See Memorandum, “Issues and Decision Memorandum for the Antidumping Duty Administrative Review: Tapered Roller Bearings and Parts Thereof, Finished and Unfinished, from the People's Republic of China; 2016-2017,” dated concurrently with, and hereby adopted by, this notice (Issues and Decision Memorandum).

³ See Memorandum, “Tapered Roller Bearings and Parts Thereof, Finished and Unfinished, from the People's Republic of China: Extension of Deadline for the Final Results of Antidumping Duty Administrative {Review},” dated October 16, 2018.

⁴ See Memorandum, “Deadlines Affected by the Partial Shutdown of the Federal Government,” dated January 28, 2019. All deadlines in this segment of the proceeding have been extended by 40 days.

Scope of the Order

The merchandise covered by the Order ⁵ includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.⁶

⁵ See Notice of Antidumping Duty Order; Tapered Roller Bearings and Parts Thereof, Finished or Unfinished, From the People's Republic of China, 52 FR 22667 (June 15, 1987) (Order).

⁶ See Issues and Decision Memorandum for a complete description of the scope of the Order.

Analysis of Comments Received

In the Issues and Decision Memorandum, we addressed all issues raised in parties' case and rebuttal briefs. Appendix I to this notice provides a list of the issues raised by parties. The Issues and Decision Memorandum is a public document and is on file electronically via Enforcement and Compliance's Antidumping and Countervailing Duty Centralized Electronic Service System (ACCESS). ACCESS is available to registered users at https://access.trade.gov and is available to all parties in the Central Records Unit, room B8024 of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on our review of the record and comments received from interested parties regarding our Preliminary Results, we made certain revisions to the margin calculations for GGB,⁷ and to the rate assigned to the non-examined, separate rate respondents.⁸

⁷ See Memorandum “Calculations for GGB Bearing Technology (Suzhou) Co., Ltd. for the Final Results,” dated concurrently with this notice.

⁸ See Issues and Decision Memorandum for a summary of these revisions.

Separate Rate Respondents

In the Preliminary Results, we determined that GGB and six other companies demonstrated their eligibility for separate rates. We received no comments or argument since the issuance of the Preliminary Results that provide a basis for reconsideration of these determinations. Therefore, for these final results, we continue to find that each of the companies listed in the table in the “Final Results” section of this notice is eligible for a separate rate.

Further, we determined in the Preliminary Results that each of 12 companies failed to demonstrate an absence of de facto government control, and, thus, Commerce did not grant them a separate rate.⁹ No party provided comments with respect to 10 of the 12 companies, and, thus, we continue to find that those 10 companies listed are not eligible for separate rates.¹⁰ Further, we received comments from the remaining two companies, Zhejiang Machinery Import & Export Corp. (Zhejiang Machinery) and Zhejiang Zhaofeng Mechanical & Electronic Co., Ltd. (Zhaofeng) with regards to their separate rate claims. We continue to find, based on record evidence, that Zhejiang Machinery failed to demonstrate an absence of de facto government control; accordingly, we also are not granting a separate rate to Zhejiang Machinery.¹¹ With respect to Zhaofeng, we have further considered the information on the record and find that Zhaofeng has demonstrated the absence of de jure and de facto government control, and thus, we are granting Zhaofeng a separate rate for these final results.¹²

⁹ See Appendix II of this notice for a list of the 11 companies which Commerce continues to find ineligible for a separate rate. Note that this list also includes a twelfth company, Hangzhou Xiaoshan Dingli Machinery Co., Ltd. (Dingli), which is discussed further below.

¹⁰ Id.

¹¹ For further discussion, see Comment 1 of the accompanying Issues and Decision Memorandum.

¹² For further discussion, see Comment 2 of the accompanying Issues and Decision Memorandum.

Finally, one additional company, Dingli, could not demonstrate that it had a suspended entry during the POR. In the Preliminary Results, we erroneously stated that we were rescinding the review with respect to Dingli because it failed to provide evidence of a suspended entry during the POR. However, rather than rescind the review with respect to Dingli, we have determined that it is ineligible for a separate rate, and thus is part of the China-wide entity.

Rate for Non-Examined Separate-Rate Respondents

The statute and our regulations do not address the rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Section 735(c)(5)(A) of the Act articulates a preference for not calculating an all-others rate using rates which are zero, de minimis, or based entirely on facts available.¹³ Accordingly, we generally will determine the weighted-average dumping margin for companies not individually examined by weight averaging the weighted-average dumping margins for the individually examined respondents, excluding rates that are zero, de minimis, or based entirely on facts available.¹⁴

¹³ See Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

¹⁴ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

For the final results, we calculated a rate only for GGB. Therefore, for these final results, following the practice described above, we have assigned to the companies that have not been individually examined, but have demonstrated their eligibility for a separate rate, the weighted-average dumping margin calculated for GGB.

Final Results of the Administrative Review

Because Zhejiang Machinery and 11 other companies did not demonstrate that they are entitled to a separate rate, Commerce finds these 12 companies (listed in Appendix II of this notice) to be part of the China-wide entity.¹⁵ Because no party requested a review of the China-wide entity, and Commerce no longer considers the China-wide entity as an exporter conditionally subject to administrative reviews,¹⁶ we did not conduct a review of the China-wide entity. The rate previously established for the China-wide entity is 92.84 percent and is not subject to change as a result of this review.

¹⁵ In the Preliminary Results, we erroneously stated that we preliminarily were rescinding the review with respect to Dingli because it failed to provide evidence of a suspended entry during the POR. However, rather than rescind the review with respect to Dingli, we have determined that it is ineligible for a separate rate.

¹⁶ See Antidumping Proceedings: Announcement of Change in Department Practice for Respondent Selection in Antidumping Duty Proceedings and Conditional Review of the Nonmarket Economy Entity (NME) in NME Antidumping Duty Proceedings, 78 FR 65963, 65970 (November 4, 2013).

For companies subject to this review, which established their eligibility for a separate rate, Commerce determines that the following weighted-average dumping margins exist for the period June 1, 2015, through May 31, 2016:

Exporter | Weighted- average dumping margin (percent)
GGB Bearing Technology (Suzhou) Co., Ltd | 7.04
CNH Industrial Italia SpA | 7.04
GSP Automotive Group Wenzhou Co. Ltd | 7.04
Hangzhou Hanji Auto Parts Co., Ltd | 7.04
Hangzhou Radical Energy-Saving Technology Co., Ltd | 7.04
Ningbo Xinglun Bearings Import & Export Co., Ltd | 7.04
Zhejiang Sihe Machine Co., Ltd | 7.04
Zhejiang Zhaofeng Mechanical & Electronic Co., Ltd | 7.04

Assessment Rates

Pursuant to section 751(a)(2)(C) of the Act, and 19 CFR 351.212(b)(1), Commerce has determined, and U.S. Customs and Border Protection (CBP) shall assess, antidumping duties on all appropriate entries covered by this review. Commerce intends to issue assessment instructions to CBP 15 days after the date of publication of these final results of review.

For GGB, we calculated importer-specific ad valorem duty assessment rates based on the ratio of the total amount of dumping calculated for the importer's examined sales to the total entered value of those sales, in accordance with 19 CFR 351.212(b)(1). Where an importer-specific assessment rate is zero or de minimis, we will instruct CBP to liquidate the appropriate entries without regard to antidumping duties.¹⁷

¹⁷ See 19 CFR 351.106(c)(2).

Pursuant to Commerce's assessment practice, for entries that were not reported in the U.S. sales data submitted by GGB, we will instruct CBP to liquidate such entries at the China-wide rate.¹⁸

¹⁸ See Non-Market Economy Antidumping Proceedings: Assessment of Antidumping Duties, 76 FR 65694 (October 24, 2011).

For the respondents which were not selected for individual examination in this administrative review and which qualified for a separate rate, the assessment rate will be equal to the weighted-average dumping margin determined for GGB in the final results of this administrative review.

For the companies identified in Appendix II as part of the China-wide entity, because Commerce determined that these companies did not qualify for a separate rate, we will instruct CBP to assess dumping duties on the companies' entries of subject merchandise at the rate of 92.84 percent.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review; (2) for previously investigated or reviewed China and non-China exporters not listed above that currently have a separate rate, the cash deposit rate will continue to be the exporter-specific rate published for the most recently completed segment of this proceeding where the exporter received that separate rate; (3) for all China exporters of subject merchandise that have not been found to be entitled to a separate rate, the cash deposit rate will be the rate for the China-wide entity, 92.84 percent; and (4) for all non-China exporters of subject merchandise which have not received their own separate rate, the cash deposit rate will be the rate applicable to the China exporter that supplied that non-China exporter. These deposit requirements, when imposed, shall remain in effect until further notice.

Disclosure

We intend to disclose the calculations performed to parties in this proceeding within five days of the date of publication of this notice, in accordance with 19 CFR 351.224(b).

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: February 19, 2019.
Gary Taverman,
Deputy Assistant Secretary for Antidumping and Countervailing Duty Operations, performing the non-exclusive functions and duties of the Assistant Secretary for Enforcement and Compliance.

Appendix I

List of Topics Discussed in the Issues and Decision Memorandum

Summary

Background

Scope of the Order

Changes Since the Preliminary Results

Discussion of the Issues

1. Zhejiang Machinery's Separate Rate Status

2. Zhaofeng's Separate Rate Status

3. Irrecoverable Value Added Taxes

4. Alleged Ministerial Error

5. GGB's “Supplier Quality Issue” Parts

6. TRB Parts from GGB's Suppliers

7. Rollers from GGB's Suppliers

8. Surrogate Values for Steel Plate

9. Surrogate Values for Packing Materials

10. Surrogate Financial Ratios

Conclusion

Appendix II

Companies Not Eligible for a Separate Rate and To Be Treated as Part of the China-Wide Entity

Company

1. Apex Maritime Shanghai Co., Ltd.

2. Crossroads Global Trading Co., Ltd.

3. Hangzhou Xiaoshan Dingli Machinery Co., Ltd.

4. Honour Lane Shipping Ltd.

5. Kinetsu World Express China Co., Ltd.

6. Luoyang Bearing Corporation (Group)

7. Pacific Link Intl Freight Forwarding Co., Ltd.

8. Shanghai Dizhao Industrial Trading Co., Ltd.

9. Thi Group Shanghai Ltd.

10. Weifang Haoxin-Conmet Mechanical Products Co., Ltd.

11. Yantai Huilong Machinery Parts Co., Ltd.

12. Zhejiang Machinery Import & Export Corp.

[FR Doc. 2019-03308 Filed 2-25-19; 8:45 am]

BILLING CODE 3510-DS-P